DEPARTMENT OF VETERANS AFFAIRS

[OMB Control No. 2900-NEW]

Proposed Information Collection (Bowel and Bladder Care Billing Form) Activity; Comment Request; Withdrawal

AGENCY: Veterans Health Administration, Department of Veterans Affairs.

ACTION: Notice; withdrawal of request for comments.

SUMMARY: In compliance with the Paperwork Reduction Act of 1995 (44 U.S.C. 3501-3521), the Department of Veterans Affairs (VA) published a collection of information notice in the Federal Register on January 17, 2014, at 79 FR 3276, announcing an opportunity for public comment on the proposed collection of certain information by the agency. The notice solicited comments on information required for National Non-VA Medical Care Program Office to pay eligible caregivers for time spent providing eligible Veterans with specifically defined services such as: bowel and bladder care, showering, shaving, brushing teeth, dressing, transferring to wheelchair, catheterization, undressing, transferring to bed, putting away clothes, etc. With respect to the collection of information in that notice, we are withdrawing our request for comments because of implementation constraints in the use of the form limiting the ability to operationalize at this time.

This document withdraws the Notices at 78 FR 52824 (August 26, 2013) and 79 FR 3276 (January 17, 2014).

FOR FURTHER INFORMATION CONTACT: Crystal Rennie, Records Management Service (005R1B), Department of Veterans Affairs, 810 Vermont Avenue NW., Washington, DC 20420, at (202) 632-7492.

Dated: March 4, 2014.
By direction of the Secretary.
Crystal Rennie,
Department Clearance Officer, U.S. Department of Veterans Affairs.

[FR Doc. 2014-04967 Filed 3-6-14; 8:45 am]

BILLING CODE 8320-01-P